DEPARTMENT OF COMMERCE

International Trade Administration

[A-201-838, A-570-964]

Seamless Refined Copper Pipe and Tube From Mexico and the People's Republic of China: Antidumping Duty Orders and Amended Final Determination of Sales at Less Than Fair Value From Mexico

AGENCY: Import Administration, International Trade Administration, Department of Commerce.

SUMMARY: Based on affirmative final determinations by the Department of Commerce (the “Department”) and the International Trade Commission (“ITC”), the Department is issuing antidumping duty orders on seamless refined copper pipe and tube (“copper pipe and tube”) from Mexico and the People's Republic of China (“PRC”). In addition, the Department is amending its final determination of sales at less than fair value (“LTFV”) from Mexico as a result of a ministerial error.

DATES: Effective Dates: November 22, 2010.

FOR FURTHER INFORMATION CONTACT: Joy Zhang (Mexico) or Shawn Higgins (PRC), AD/CVD Operations, Offices 3 and 4, Import Administration, International Trade Administration, U.S. Department of Commerce, 14th Street and Constitution Avenue, NW., Washington, DC 20230; telephone: (202) 482-1168 or (202) 482-0679, respectively.

SUPPLEMENTARY INFORMATION:

Background

On October 1, 2010, the Department published its affirmative final determinations of sales at LTFV in the antidumping duty investigations of copper pipe and tube from Mexico and the PRC.¹

¹ See Seamless Refined Copper Pipe and Tube From Mexico: Final Determination of Sales at Less Than Fair Value, 75 FR 60723 (October 1, 2010) (“Final Determination of Sales at LTFV from Mexico”); Seamless Refined Copper Pipe and Tube From the People's Republic of China: Final Determination of Sales at Less Than Fair Value, 75 FR 60725 (October 1, 2010).

On November 15, 2010, in accordance with section 735(d) of the Tariff Act of 1930, as amended (the “Act”), the ITC notified the Department of its final determination, that an industry in the United States is threatened with material injury by reason of LTFV imports of copper pipe and tube from Mexico and the PRC.²

² See Seamless Refined Copper Pipe and Tube from China and Mexico, Investigation Nos. 731-TA-1174-1175 (Final), USITC Publication 4193, November 2010; section 735(b)(1)(A)(ii) of the Act.

Scope of the Orders

For the purpose of these orders, the products covered are all seamless circular refined copper pipes and tubes, including redraw hollows, greater than or equal to 6 inches (152.4 mm) in length and measuring less than 12.130 inches (308.102 mm) (actual) in outside diameter (“OD”), regardless of wall thickness, bore (e.g., smooth, enhanced with inner grooves or ridges), manufacturing process (e.g., hot finished, cold-drawn, annealed), outer surface (e.g., plain or enhanced with grooves, ridges, fins, or gills), end finish (e.g., plain end, swaged end, flared end, expanded end, crimped end, threaded), coating (e.g., plastic, paint), insulation, attachments (e.g., plain, capped, plugged, with compression or other fitting), or physical configuration (e.g., straight, coiled, bent, wound on spools).

The scope of these orders covers, but is not limited to, seamless refined copper pipe and tube produced or comparable to the American Society for Testing and Materials (“ASTM”) ASTM-B42, ASTM-B68, ASTM-B75, ASTM-B88, ASTM-B88M, ASTM-B188, ASTM-B251, ASTM-B251M, ASTM-B280, ASTM-B302, ASTM-B306, ASTM-359, ASTM-B743, ASTM-B819, and ASTM-B903 specifications and meeting the physical parameters described therein. Also included within the scope of these orders are all sets of covered products, including “line sets” of seamless refined copper tubes (with or without fittings or insulation) suitable for connecting an outdoor air conditioner or heat pump to an indoor evaporator unit. The phrase “all sets of covered products” denotes any combination of items put up for sale that is comprised of merchandise subject to the scope.

“Refined copper” is defined as: (1) Metal containing at least 99.85 percent by weight of copper; or (2) metal containing at least 97.5 percent by weight of copper, provided that the content by weight of any other element does not exceed the following limits:

Element | Limiting content percent by weight
Ag—Silver | 0.25
As—Arsenic | 0.5
Cd—Cadmium | 1.3
Cr—Chromium | 1.4
Mg—Magnesium | 0.8
Pb—Lead | 1.5
S—Sulfur | 0.7
Sn—Tin | 0.8
Te—Tellurium | 0.8
Zn—Zinc | 1.0
Zr—Zirconium | 0.3
Other elements (each) | 0.3

Excluded from the scope of these orders are all seamless circular hollows of refined copper less than 12 inches in length whose OD (actual) exceeds its length. The products subject to these orders are currently classifiable under subheadings 7411.10.1030 and 7411.10.1090 of the Harmonized Tariff Schedule of the United States (“HTSUS”). Products subject to these orders may also enter under HTSUS subheadings 7407.10.1500, 7419.99.5050, 8415.90.8065, and 8415.90.8085. Although the HTSUS subheadings are provided for convenience and customs purposes, the written description of the scope of these orders is dispositive.

Amendment to the Final Determination of Sales at LTFV From Mexico

On October 1, 2010, the Department published its affirmative final determination of sales at LTFV of copper pipe and tube from Mexico.³ On October 6, 2010, Nacional de Cobre, S.A. de C.V. (“Nacobre”), a respondent in the investigation, submitted a timely ministerial error allegation and requested, pursuant to section 735(e) of the Act and 19 CFR 351.224(c), that the Department correct an alleged ministerial error in the dumping margin calculations.⁴ The Department did not receive any rebuttal comments.

³ See Final Determination of Sales at LTFV from Mexico.

⁴ See Letter from Nacobre to the Secretary of Commerce, “Seamless Refined Copper Pipe and Tube from Mexico: Nacobre's Comments Regarding Ministerial Errors in the Final Determination” (October 6, 2010).

After analyzing Nacobre's allegation, the Department determined, in accordance with section 735(e) of the Act and 19 CFR 351.224(e), that it made a ministerial error in its calculations for the Final Determination of Sales at LTFV from Mexico. Specifically, the Department relied on incorrect comparison market (“CM”) data used for the price-to-price comparisons with United States sales, calculations of profit for constructed export price (“CEP”) sales, and constructed value selling expenses. Therefore, the Department changed the margin program calculations for Nacobre to rely on the correct weighted-average CM data. Based on the correction of this error, Nacobre's weighted-average margin decreased from 31.43 percent to 27.16 percent. Furthermore, to remain consistent with the methodology used to calculate the “all others” rate in the Final Determination of Sales at LTFV from Mexico, the Department calculated a simple average of the weighted-average dumping margins for the mandatory respondents to derive a revised “all others” rate of 26.03 percent.

For a detailed discussion of the ministerial error alleged by Nacobre, as well as the Department's analysis, see the Department's October 18, 2010, ministerial error memorandum.⁵

⁵ See Memorandum from Melissa G. Skinner, Director, AD/CVD Operations, Office 3, to Ronald K. Lorentzen, Deputy Assistant Secretary for Import Administration, “Ministerial Error Allegations in the Final Determination of the Antidumping Duty Investigation of Seamless Refined Copper Pipe and Tube from Mexico” (October 18, 2010).

Antidumping Duty Orders

On November 15, 2010, in accordance with section 735(d) of the Act, the ITC notified the Department of its final determination that an industry in the United States is threatened with material injury within the meaning of section 735(b)(1)(A)(ii) of the Act by reason of LTFV imports of copper pipe and tube from Mexico and the PRC. Therefore, in accordance with section 736(a)(1) of the Act, the Department will direct U.S. Customs and Border Protection (“CBP”) to assess, upon further advice by the Department, antidumping duties equal to the amount by which the normal value of the merchandise exceeds the export price (or CEP) of the merchandise for all relevant entries of copper pipe and tube from Mexico and the PRC.

Pursuant to section 736(b)(2) of the Act, duties shall be assessed on subject merchandise entered, or withdrawn from warehouse, for consumption on or after the date of publication of the ITC's notice of final determination if that determination is based on the threat of material injury, other than threat of material injury described in section 736(b)(1) of the Act.⁶ In addition, section 736(b)(2) of the Act requires CBP to release any bond or other security, and refund any cash deposit made of estimated antidumping duties posted since the Department's preliminary antidumping duty determinations.⁷

⁶ Section 736(b)(1) of the Act states that “{i}f the {ITC}, in its final determination under section 735(b), finds material injury or threat of material injury which, but for the suspension of liquidation under section 733(d)(2) would have led to a finding of material injury, then entries of the subject merchandise, the liquidation of which has been suspended under section 733(d)(2), shall be subject to the imposition of antidumping duties under section 731.”

⁷ See Seamless Refined Copper Pipe and Tube From Mexico: Notice of Preliminary Determination of Sales at Less Than Fair Value and Postponement of Final Determination, 75 FR 26726 (May 12, 2010), as corrected by Seamless Refined Copper Pipe and Tube From Mexico: Correction to Notice of Preliminary Determination of Sales at Less Than Fair Value and Postponement of Final Determination, 75 FR 29990 (May 28, 2010); Seamless Refined Copper Pipe and Tube from the People's Republic of China: Preliminary Determination of Sales at Less Than Fair Value and Postponement of Final Determination, 75 FR 26716 (May 12, 2010).

Because the ITC's final determination is based on the threat of material injury and is not accompanied by a finding that injury would have resulted but for the imposition of suspension of liquidation of entries since the Department's preliminary determinations, section 736(b)(2) of the Act is applicable. Therefore, the Department will instruct CBP to terminate the suspension of liquidation for entries of copper pipe and tube from Mexico and the PRC entered, or withdrawn from warehouse, for consumption prior to the publication of the ITC's final determination and release any bond or other security posted and refund any cash deposit of estimated antidumping duties made between the publication of the Department's preliminary determinations on May 12, 2010, and the publication of the ITC's final determination. Furthermore, the antidumping duties below will be assessed on all unliquidated entries of copper pipe and tube from Mexico and the PRC entered, or withdrawn from warehouse, for consumption on or after the date of publication of the ITC's notice of final determination of threat of material injury in the Federal Register.

Final Determination Margins

The margins, as amended where appropriate, and cash deposit rates are as follows:

People's Republic of China
Exporter | Producer | Weighted- average margin (percent)
Golden Dragon Precise Copper Tube Group, Inc | Golden Dragon Precise Copper Tube Group, Inc | 11.25
Zhejiang Hailiang Co., Ltd.; Hong Kong Hailiang Metal Trading Limited; Shanghai Hailiang Copper Co., Ltd | Zhejiang Hailiang Co., Ltd.; Shanghai Hailiang Copper Co., Ltd | 60.85
Zhejiang Naile Copper Co., Ltd | Zhejiang Naile Copper Co., Ltd | 36.05
Zhejiang Jiahe Pipes Inc | Zhejiang Jiahe Pipes Inc | 36.05
Luvata Tube (Zhongshan) Ltd | Luvata Tube (Zhongshan) Ltd | 36.05
Luvata Tube (Zhongshan) Ltd | Luvata Alltop (Zhongshan) Ltd | 36.05
Luvata Alltop (Zhongshan) Ltd | Luvata Alltop (Zhongshan) Ltd | 36.05
Ningbo Jintian Copper Tube Co. Ltd | Ningbo Jintian Copper Tube Co. Ltd | 36.05
PRC-Wide Entity | PRC-Wide Entity | 60.85
Mexico
IUSA S.A. de C.V | IUSA S.A. de C.V | 24.89
Nacional de Cobre, S.A. de C.V | Nacional de Cobre, S.A. de C.V | 27.16
All Others | All Others | 26.03

On or after the date of publication of the ITC's notice of final determination in the Federal Register, CBP must require, pursuant to section 736(a)(3) of the Act, at the same time as importers would normally deposit estimated duties on this merchandise, a cash deposit equal to the estimated weighted-average margins listed above.

This notice constitutes the antidumping duty orders with respect to copper pipe and tube from Mexico and the PRC, pursuant to section 736(a) of the Act. Interested parties may contact the Department's Central Records Unit, Room 7046 of the main Commerce building, for copies of an updated list of antidumping duty orders currently in effect.

These antidumping duty orders and amended final determination are issued and published in accordance with sections 736(a), 735(e), and 777(i)(A) of the Act and 19 CFR 351.211(b) and 351.224(e).

Dated: November 18, 2010.
Ronald K. Lorentzen,
Deputy Assistant Secretary for Import Administration.

[FR Doc. 2010-29528 Filed 11-19-10; 8:45 am]

BILLING CODE 3510-DS-P